OFFICE OF PERSONNEL MANAGEMENT

Excepted Service

AGENCY: Office of Personnel Management (OPM).

ACTION: Notice.

SUMMARY: This notice identifies Schedule A, B, and C appointing authorities applicable to a single agency that was established, modified, or revoked from November 1, 2023, to November 30, 2023.

FOR FURTHER INFORMATION CONTACT: Julia Alford, Agency Operations and Services, Executive Services and Workforce Development, Workforce Policy and Innovation, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that was established, modified, or revoked from November 1, 2023, to November 30, 2023.

Schedule A

No Schedule A Authorities to report during November 2023.

Schedule B

No Schedule B Authorities to report during November 2023.

Schedule C

The following Schedule C appointing authorities were approved during November 2023.

Agency name | Organization name | Position title | Authorization No. | Effective date
DEPARTMENT OF AGRICULTURE | Rural Housing Service | Special Assistant | DA240008 | 11/05/2023
| Office of the Assistant Secretary for Congressional Relations | Director of External Affairs | DA240009 | 11/05/2023
| Foreign Agricultural Service | Confidential Assistant | DA240010 | 11/05/2023
| Office of Rural Development | Senior Advisor | DA240016 | 11/24/2023
DEPARTMENT OF COMMERCE | Bureau of Industry and Security | Chief of Staff | DC240009 | 11/02/2023
| National Oceanic and Atmospheric Administration | Senior Advisor (2) | DC240019 DC240019 | 11/30/2023 11/30/2023
| Office of Policy and Strategic Planning | Policy Advisor for Chips Implementation | DC240017 | 11/30/2023
| Office of the Chief of Staff | Special Advisor (2) | DC240008 DC240010 | 11/02/2023 11/02/2023
FEDERAL PERMITTING IMPROVEMENT STEERING COUNCIL | Federal Permitting Improvement Steering Council | Director of Legislative and Intergovernmental Affairs | FF240001 | 11/07/2023
CONSUMER FINANCIAL PROTECTION BUREAU | Consumer Financial Protection Bureau | Associate Director, External Affairs | FP240001 | 11/06/2023
DEPARTMENT OF DEFENSE | Office of the Assistant to the Secretary of Defense (Public Affairs) | Speechwriter (2) | DD240011 DD240012 | 11/09/2023 11/09/2023
| Office of the Under Secretary of Defense (Research and Engineering) | Special Assistant | DD240015 | 11/24/2023
DEPARTMENT OF ENERGY | Office of the Secretary | Special Assistant | DE240013 | 11/16/2023
| Office of the Assistant Secretary for Congressional and Intergovernmental Affairs | Deputy Assistant Secretary for Intergovernmental and External Affairs | DE240015 | 11/29/2023
ENVIRONMENTAL PROTECTION AGENCY | Office of Public Affairs | Special Assistant | EP240010 | 11/17/2023
| Office of the Executive Secretariat | Special Assistant | EP240011 | 11/17/2023
FARM CREDIT ADMINISTRATION | Office of the Chief Operating Officer | Chief of Staff | FL230004 | 11/17/2023
DEPARTMENT OF HEALTH AND HUMAN SERVICES | Administration for Children and Families | Director of Communications Press Secretary | DH240018 DH240015 | 11/01/2023 11/02/2023
| Office of Intergovernmental and External Affairs | Special Assistant | DH240027 | 11/29/2023
| Office of the Assistant Secretary for Administration | Senior Advisor for Strategic Initiatives | DH240011 | 11/06/2023
| Office of the Assistant Secretary for Health | Senior Advisor | DH240023 | 11/15/2023
| Office of the Assistant Secretary for Public Affairs | Press Secretary (Health Care) (2) | DH240009 DH240029 | 11/02/2023 11/30/2023
| Office of the Deputy Secretary | Advisor | DH240024 | 11/15/2023
| Office of the Secretary | Policy Advisor | DH230242 | 11/09/2023
DEPARTMENT OF HOMELAND SECURITY | Federal Emergency Management Agency | Special Assistant | DM240011 | 11/24/2023
| Office of Strategy, Policy, and Plans | Senior Advisor | DM240008 | 11/30/2023
DEPARTMENT OF HOUSING AND URBAN DEVELOPMENT | Office of Congressional and Intergovernmental Relations | Congressional Relations Specialist | DU240008 | 11/01/2023
| Office of Field Policy and Management | Regional Administrator Region 4 | DU240005 | 11/02/2023
| Office of the Secretary | Director of Domestic Violence (Temporary Duty Station Change) | DU240007 | 11/08/2023
DEPARTMENT OF THE INTERIOR | United States Geological Survey | Special Advisor | DI240008 | 11/07/2023
| Bureau of Safety and Environmental Enforcement | Senior Advisor to the Director | DI240009 | 11/07/2023
| Bureau of Ocean Energy Management | Advisor | DI240010 | 11/07/2023
| Secretary's Immediate Office | Advisor | DI240013 | 11/30/2023
|  | Special Assistant to the Senior Counselor | DI240014 | 11/30/2023
DEPARTMENT OF JUSTICE | Office of Public Affairs | Associate Director for Speechwriting | DJ230147 | 11/03/2023
DEPARTMENT OF LABOR | Bureau of International Labor Affairs | Advisor | DL240009 | 11/15/2023
| Office of Congressional and Intergovernmental Affairs | Advisor to the Assistant Secretary | DL240006 | 11/08/2023
|  | Deputy Director of Intergovernmental Affairs | DL240007 | 11/08/2023
| Office of the Assistant Secretary for Policy | Chief of Staff | DL240010 | 11/15/2023
| Office of the Secretary | Director of Advance | DL240008 | 11/01/2023
NATIONAL AERONAUTICS AND SPACE ADMINITRATION | Office of Legislative and Intergovernmental Affairs | Director of Congressional Affairs | NN240008 | 11/03/2023
UNITED STATES PATENT AND TRADEMARK OFFICE | Patent and Trademark Office | Chief Communications Officer | PD240004 | 11/30/2023
NATIONAL ENDOWMENT FOR THE ARTS | National Endowment for the Arts | Special Assistant for Chair Initiatives | NA240003 | 11/09/2023
OFFICE OF MANAGEMENT AND BUDGET | Office of the Director | Deputy Chief of Staff | BO240007 | 11/02/2023
| Staff Offices | Confidential Assistant (3) | BO240005 BO240006 BO240004 | 11/02/2023 11/02/2023 11/03/2023
OFFICE OF SCIENCE AND TECHNOLOGY POLICY | Office of Science and Technology Policy | Director of Communication | TS240001 | 11/17/2023
UNITED STATES INTERNATIONAL DEVELOPMENT FINANCE CORPORATION | Overseas Private Investment Corporation | Special Assistant | PQ240002 | 11/09/2023
SMALL BUSINESS ADMINISTRATION | Office of Communications and Public Liaison | Senior Advisor | SB230044 | 11/02/2023
|  | Deputy Associate Administrator for Communication and Public Liaison | SB240007 | 11/30/2023
| Office of Field Operations | Regional Administrator, Region X | SB240005 | 11/30/2023
DEPARTMENT OF STATE | Office of Global Criminal Justice | Senior Advisor | DS240002 | 11/02/2023
DEPARTMENT OF TRANSPORTATION | Office of the Assistant Secretary for Governmental Affairs | Advisor for Intergovernmental Affairs | DT240006 | 11/03/2023
| Federal Highway Administration | Director of Public Affairs | DT240007 | 11/03/2023
| Office of the Secretary | Deputy White House Liaison | DT240010 | 11/17/2023
| Office of the Executive Secretariat | Director | DT240011 | 11/17/2023
DEPARTMENT OF THE TREASURY | Department of the Treasury | Special Assistant | DY240012 | 11/02/2023
| Office of the Assistant Secretary (Legislative Affairs) | Special Advisor | DY240009 | 11/09/2023
| Secretary of the Treasury | Scheduling and Advance Associate | DY240015 | 11/09/2023
|  | Senior Advisor | DY240005 | 11/17/2023
|  | Special Assistant | DY240019 | 11/30/2023
| Office of the Assistant Secretary for Intelligence and Analysis | Special Advisor | DY240023 | 11/30/2023

The following Schedule C appointing authorities were revoked during November 2023.

Agency name | Organization name | Position title | Request No. | Vacate date
DEPARTMENT OF AGRICULTURE | Food and Nutrition Service | Senior Policy Advisor | DA230078 | 11/03/2023
| Foreign Agricultural Service | Senior Advisor | DA220130 | 11/04/2023
| Office of the Assistant Secretary for Congressional Relations | Confidential Assistant | DA220107 | 11/04/2023
| Office of the Secretary | Advance Associate | DA230006 | 11/04/2023
| Office of the Under Secretary for Marketing and Regulatory Programs | Confidential Assistant | DA220094 | 11/04/2023
DEPARTMENT OF COMMERCE | Office of the Assistant Secretary for Industry and Analysis | Director, Office of Industry Engagement | DC210176 | 11/24/2023
| National Institute of Standards and Technology | Communications Director | DC230040 | 11/09/2023
| Office of the Under Secretary for Economic Affairs | Senior Advisor | DC230088 | 11/04/2023
DEPARTMENT OF EDUCATION | Office of Career Technical and Adult Education | Special Assistant | DB210101 | 11/04/2023
| Office of Communications and Outreach | Special Assistant, Youth Engagement | DB230102 | 11/24/2023
| Office of Legislation and Congressional Affairs | Director of Higher Education and Oversight Strategy | DB220024 | 11/17/2023
|  | Deputy Assistant for Higher Education | DB220083 | 11/15/2023
DEPARTMENT OF HEALTH AND HUMAN SERVICES | Office of Administration for Children and Families | Senior Advisor | DH220137 | 11/04/2023
| Centers for Medicare and Medicaid Services | Senior Advisor and Press Secretary | DH230132 | 11/04/2023
| Office of the Assistant Secretary for Health | Senior Advisor, Environmental Justice | DH220158 | 11/18/2023
DEPARTMENT OF HOMELAND SECURITY | Cybersecurity and Infrastructure Security Agency | Senior Advisor for Public Affairs | DM230010 | 11/24/2023
| Office of Public Affairs | Senior Advisor | DM230349 | 11/28/2023
DEPARTMENT OF HOUSING AND URBAN DEVELOPMENT | Office of Congressional and Intergovernmental Relations | Special Advisor | DU230037 | 11/04/2023
| Office of Policy Development and Research | Special Assistant | DU210088 | 11/04/2023
| Office of the Administration | Senior Advisor | DU230031 | 11/11/2023
| Office of the Secretary | Director of Domestic Violence | DU210090 | 11/11/2023
DEPARTMENT OF JUSTICE | Office of Legal Policy | Advisor | DJ210121 | 11/17/2023
| Office of Public Affairs | Chief Speechwriter | DJ220006 | 11/04/2023
| Office of the Associate Attorney General | Deputy Associate Attorney General | DJ220108 | 11/07/2023
DEPARTMENT OF LABOR | Bureau of International Labor Affairs | Special Assistant | DL210124 | 11/18/2023
| Employment and Training Administration | Deputy Advisor | DL220083 | 11/27/2023
| Office of Congressional and Intergovernmental Affairs | Deputy Director | DL220075 | 11/18/2023
|  | Senior Legislative Assistant | DL230003 | 11/18/2023
| Office of Public Affairs | Special Assistant | DL210111 | 11/21/2023
| Office of the Assistant Secretary for Policy | Policy Advisor | DL210109 | 11/19/2023
DEPARTMENT OF STATE | Bureau of Global Health Security and Diplomacy | Senior Advisor | DS220066 | 11/04/2023
| Office of Policy Planning | Senior Advisor | DS210198 | 11/04/2023
| Office of the Chief of Protocol | Assistant Chief of Protocol | DS230142 | 11/25/2023
| Office of the Under Secretary for Civilian Security, Democracy, and Human Rights | Senior Advisor | DS210270 | 11/13/2023
DEPARTMENT OF THE ARMY | Office of the Under Secretary | Speechwriter to the Under Secretary of the Army | DW230021 | 11/17/2023
DEPARTMENT OF THE INTERIOR | Secretary's Immediate Office | Advisor | DI210120 | 11/04/2023
|  | Senior Advance Representative | DI230051 | 11/04/2023
| United States Geological Survey | Special Assistant | DI230059 | 11/18/2023
DEPARTMENT OF THE TREASURY | Office of the Assistant Secretary (Economic Policy) | Special Assistant Russia/Ukraine | DY230015 | 11/04/2023
| Office of the Assistant Secretary (Legislative Affairs) | Special Assistant | DY230119 | 11/18/2023
| Department of the Treasury | Special Assistant | DY230096 | 11/22/2023
| Secretary of the Treasury | Special Assistant | DY220139 | 11/04/2023
|  | Senior Advisor (2) | DY230036 DY230131 | 11/04/2023 11/18/2023
|  | Policy Advisor | DY230038 | 11/04/2023
DEPARTMENT OF TRANSPORTATION | Office of the Assistant Secretary for Governmental Affairs | Special Assistant | DT230006 | 11/04/2023
| Office of the Executive Secretariat | Director, Executive Secretariat | DT220110 | 11/18/2023
| Office of the Secretary | Deputy White House Liaison | DT230072 | 11/03/2023
EXPORT-IMPORT BANK | Office of the General Counsel | Senior Vice President and General Counsel | EB210010 | 11/04/2023
FEDERAL TRADE COMMISSION | Office of the Chair | Special Advisor to the Chair | FT230009 | 11/18/2023
NATIONAL AERONAUTICS AND SPACE ADMINISTRATION | Office of Communications | Director of Speechwriting | NN230020 | 11/25/2023
| Office of Legislative and Intergovernmental Affairs | Legislative Affairs Specialist | NN210061 | 11/04/2023
NATIONAL CREDIT UNION ADMINISTRATION | Office of the Board | Senior Policy Advisor | CU210004 | 11/06/2023
OFFICE OF MANAGEMENT AND BUDGET | Staff Offices | Confidential Assistant | BO230042 | 11/18/2023
OFFICE OF THE SECRETARY OF DEFENSE | Office of the Assistant Secretary of Defense (Legislative Affairs) | Special Assistant | DD230011 | 11/04/2023
| Office of the Under Secretary of Defense (Personnel and Readiness) | Special Assistant | DD230036 | 11/18/2023
| Washington Headquarters Services | Defense Fellow (2) | DD220020 DD230148 | 11/18/2023 11/18/2023
SMALL BUSINESS ADMINISTRATION | Office of the Administrator | Special Assistant | SB220030 | 11/04/2023
UNITED STATES INTERNATIONAL DEVELOPMENT FINANCE CORPORATION | Overseas Private Investment Corporation | Confidential Assistant | PQ220006 | 11/04/2023

Authority: 5 U.S.C. 3301 and 3302; E.O. 10577, 3 CFR, 1954-1958 Comp., p. 218.

Office of Personnel Management.
Kayyonne Marston,
Federal Register Liaison.

[FR Doc. 2024-11364 Filed 5-22-24; 8:45 am]

BILLING CODE 6325-39-P